DEPARTMENT OF HOMELAND SECURITY

Coast Guard

33 CFR Part 165

[Docket No. USCG-2012-1036]

Safety Zones, Recurring Marine Events in Captain of the Port Long Island Sound Zone

AGENCY: Coast Guard, DHS.

ACTION: Notice of enforcement of regulation.

SUMMARY: The Coast Guard will enforce fourteen safety zones for fireworks displays in the Sector Long Island Sound area of responsibility on the date and time listed in the table below. This action is necessary to provide for the safety of life on navigable waterways during the events. During the enforcement periods, no person or vessel may enter the safety zones without permission of the Captain of the Port (COTP) Sector Long Island Sound or designated representative.

DATES: The regulation in 33 CFR 165.151 will be enforced for the following safety zones identified in the SUPPLEMENTARY INFORMATION section below for the dates and times specified.

FOR FURTHER INFORMATION CONTACT: If you have questions on this notice of enforcement, call or email Chief Petty Officer Katherine Linnick, Waterways Management Division, U.S. Coast Guard Sector Long Island Sound; telephone 203-468-4565, email Katherine.E.Linnick@uscg.mil.

SUPPLEMENTARY INFORMATION: The Coast Guard will enforce the safety zones listed in 33 CFR 165.151 on the following dates and times as indicated below.

6.3 Vietnam Veterans/Town of East Haven Fireworks | • Date: June 30, 2018.
| • Rain Date: July 2, 2018.
| • Time: 9:00 p.m. to 10:30 p.m.
| • Location: Waters off Cosey Beach, East Haven, CT in approximate position, 41°14′19″ N, 072°52′9.8″ W (NAD 83).
7.1 Point O' Woods Fire Company Summer Fireworks | • Date: July 4, 2018.
| • Rain Date: July 5, 2018.
| • Time: 8:30 p.m. to 10:30 p.m.
| • Location: Waters of the Great South Bay, Point O'Woods, NY in approximate position 40°39′18.57″ N, 073°08′5.73″ W (NAD 83).
7.4 Norwalk Fireworks | • Date: July 3, 2018.
| • Rain Date: July 5, 2018.
| • Time: 9:00 p.m. to 9:30 p.m.
| • Location: Waters off Calf Pasture Beach, Norwalk, CT in approximate position, 41°04′50″ N, 073°23′22″ W (NAD 83).
7.5 Lawrence Beach Club Fireworks | • Date: June 30, 2018.
| • Rain Date: July 1, 2018.
| • Time: 9:00 p.m. to 10:30 p.m.
| • Location: Waters of the Atlantic Ocean off Lawrence Beach Club, Atlantic Beach, NY in approximate position 40°34′42.65″ N, 073°42′56.02″ W (NAD 83).
7.6 Sag Harbor Fireworks | • Date: June 30, 2018.
| • Rain Date: July 1, 2018.
| • Time: 8:30 p.m. to 10:30 p.m.
| • Location: Waters of Sag Harbor Bay off Havens Beach, Sag Harbor, NY in approximate position 41°00′26″ N, 072°17′9″ W (NAD 83).
7.7 South Hampton Fresh Air Home Fireworks | • Date: June 30, 2018.
| • Rain Date: July 1, 2018.
| • Time: 8:30 p.m. to 10:30 p.m.
| • Location: Waters of Shinnecock Bay, Southampton, NY in approximate position, 40°51′48″ N, 072°26′30″ W (NAD 83).
7.8 Westport Police Athletic League Fireworks | • Date: July 2, 2018.
| • Time: 8:30 p.m. to 10:30 p.m.
| • Location: Waters off Compo Beach, Westport, CT in approximate position, 41°06′15″ N, 073°20′57″ W (NAD 83).
7.27 City of Long Beach Fireworks | • Date: July 6, 2018.
| • Rain Date: July 7, 2018.
| • Time: 8:30 p.m. to 10:00 p.m.
| • Location: Waters off Riverside Blvd., City of Long Beach, NY in approximate position 40°34′38.77″ N, 073°39′41.32″ W (NAD 83).
7.30 Shelter Island Fireworks | • Date: July 7, 2018.
| • Rain Date: July 8, 2018.
| • Time: 8:30 p.m. to 10:30 p.m.
| • Location: Waters of Gardiner Bay, Shelter Island, NY in approximate position 41°04′39.11″ N, 072°22′01.07″ W (NAD 83).
7.33 Groton Long Point Yacht Club Fireworks | • Date: July 21, 2018.
| • Rain Date: July 22, 2018.
| • Time: 9:00 p.m. to 10:30 p.m.
| • Location: Waters of Long Island Sound, Groton, CT in approximate position 41°18′05″ N, 072°02′08″ W (NAD 83).
7.34 Devon Yacht Club Fireworks | • Date: July 7, 2018.
| • Rain Date: July 8, 2018.
| • Time: 8:30 p.m. to 10:30 p.m.
| • Location: Waters of Napeague Bay, in Block Island Sound off Amagansett, NY in approximate position 40°59′41.40″ N, 072°06′08.70″ W (NAD 83).
7.40 Rowayton Fireworks | • Date: July 4, 2018.
| • Rain Date: July 5, 2018.
| • Time: 9:00 p.m. to 10:00 p.m.
| • Location: Waters of Long Island Sound south of Bayley Beach Park, Rowayton, CT in approximate position 41°03′11″ N, 073°26′41″ W (NAD 83).
8.4 Town of Babylon Fireworks | • Date: August 18, 2018.
| • Rain Date: August 19, 2018.
| • Time: 8:30 p.m. to 10:30 p.m.
| • Location: Waters off of Cedar Beach Town Park, Babylon, NY in approximate position 40°37′53″ N, 073°20′12″ W (NAD 83).
9.4 The Creek Fireworks | • Date: September 1, 2018.
| • Rain Date: September 2, 2018.
| • Time: 8:00 p.m. to 9:30 p.m.
| • Location: Waters of Long Island Sound off the Creek Golf Course, Lattingtown, NY in approximate position 40°54′13″ N, 073°35′58″ W (NAD 83).

Under the provisions of 33 CFR 165.151, the fireworks displays listed above are established as safety zones. During the enforcement period, persons and vessels are prohibited from entering into, transiting through, mooring, or anchoring within these safety zones unless they receive permission from the COTP or designated representative.

This document is issued under authority of 33 CFR 165 and 5 U.S.C. 552(a). In addition to this notice of enforcement in the Federal Register, the Coast Guard will provide the maritime community with advance notification of this enforcement period via the Local Notice to Mariners or marine information broadcasts. If the COTP determines that these safety zones need not be enforced for the full duration stated in this notice, a Broadcast Notice to Mariners may be used to grant general permission to enter the regulated area.

Dated: May 29, 2018.
K.B. Reed,
Captain, U.S. Coast Guard, Captain of the Port Long Island Sound.

[FR Doc. 2018-13254 Filed 6-19-18; 8:45 am]

BILLING CODE 9110-04-P